DEPARTMENT OF LABOR

Employment and Training Administration

[TA-W-72,748]

New United Motor Manufacturing, Inc. Formerly a Joint Venture of General Motors Corporation and Toyota Motor Corporation Including On-Site Leased Workers From Corestaff, ABM Janitorial, Toyota Engineering and Manufacturing North America, NPA Coatings, Inc., Premier Manufacturing and MacLellan Integrated Services, Inc. and On-Site Workers From Dupont Performance Coatings, Fremont, CA; Amended Certification Regarding Eligibility To Apply for Worker Adjustment Assistance

In accordance with Section 223 of the Trade Act of 1974, as amended (“Act”), 19 U.S.C. 2273, the Department of Labor issued a Certification of Eligibility to apply for Worker Adjustment Assistance on November 19, 2009, applicable to workers of New United Motor Manufacturing, Inc., formerly a joint venture of General Motors Corporation and Toyota Motor Corporation, including on-site leased workers from Corestaff, Fremont, California. The notice was published in the Federal Register on January 25, 2010 (75 FR 3938). The notice was amended on April 27, 2010, May 11, 2010, June 24, 2010 and July 26, 2010 to include on-site leased workers. The notices were published in the Federal Register on May 12, 2010 (75 FR 26794) May 21, 2010 (75 FR 28656-28657), July 7, 2010 (75 FR 39045-39046) and August 6, 2010 (75 FR 47632), respectively.

At the request of the petitioners, the Department reviewed the certification for workers of the subject firm. The workers assemble the Toyota Corolla and the Toyota Tacoma and used to assemble the Pontiac Vibe.

Information shows that workers leased from MacLellan Integrated Services, Inc. were employed on-site at the Fremont, California location of New United Motor Manufacturing, Inc., formerly a joint venture of General Motors Corporation and Toyota Motor Corporation. The Department has determined that these workers were sufficiently under the control of New United Motor Manufacturing, Inc. to be considered leased workers.

Based on these findings, the Department is amending this certification to include workers leased from MacLellan Integrated Services working on-site at the Fremont, California location of New United Motor Manufacturing, Inc., formerly a joint venture of General Motors Corporation and Toyota Motor Corporation.

The amended notice applicable to TA-W-72,748 is hereby issued as follows:

All workers of New United Motor Manufacturing, Inc., formerly a joint venture of General Motors Corporation and Toyota Motor Corporation, including on-site leased workers from Corestaff, ABM Janitorial, Toyota Engineering and Manufacturing North America, NPA Coatings, Inc., Premier Manufacturing and MacLellan Integrated Services, Inc.; and also on-site workers from DuPont Performance Coatings, Fremont, California, who became totally or partially separated from employment on or after October 29, 2008, through November 19, 2011, and all workers in the group threatened with total or partial separation from employment on the date of certification through two years from the date of certification, are eligible to apply for adjustment assistance under Chapter 2 of Title II of the Trade Act of 1974, as amended.

Signed in Washington, DC, this 29th day of September 2010.
Elliott S. Kushner,
Certifying Officer, Division of Trade Adjustment Assistance.

[FR Doc. 2010-25403 Filed 10-7-10; 8:45 am]

BILLING CODE 4510-FN-P